DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Business and Professional Classification Report.

Form Number(s): SQ-CLASS.

OMB Control Number: 0607-0189.

Type of Request: Revision of a currently approved collection.

Burden Hours: 10,835.

Number of Respondents: 50,000.

Average Hours per Response: 13 minutes.

Needs and Uses: The Economic Census represents the primary source of facts about the structure and function of the U.S. economy, providing essential information to government and business to help guide sound decisions. Conducted every five years, the data help build the foundation for Gross Domestic Product (GDP) and other indicators of economic performance. Critical to its conduct is the accuracy and reliability of the Business Register data which provides the Economic Census with its establishment enumeration list. Equally important is that the status of these establishments and related industry codes be as up-to-date as possible. The primary purpose of the “Business and Professional Classification Report” or SQ-CLASS is to meet this need for the retail, wholesale, and services sectors. Firms will be mailed five-year Economic Census forms specifically tailored to their industry based on the classification information we collect using the SQ-CLASS.

In addition, the SQ-CLASS report is used to collect information needed to keep the retail, wholesale, and services samples current with the business universe. Because of rapid changes in the marketplace caused by the emergence of new businesses, the death of others, and changes in company organization, the Census Bureau canvasses a sample of new Employer Identification Numbers (EINs) obtained from the Internal Revenue Service (IRS) and the Social Security Administration (SSA).

Each firm selected in this sample is canvassed once for data on the establishment(s) associated with the new EIN. The completed SQ-CLASS form provides sales, receipts, or revenue; company organization; new or refined NAICS codes; and other key information needed for sampling to maintain proper coverage of the universe.

Based on the collected information, EINs meeting the criteria for inclusion in the Census Bureau's retail, wholesale, or service surveys are subjected to second sampling. The retail and wholesale EINs selected in this second sampling are placed on a panel to report in our monthly surveys. Additional panels of selected units are included in the annual surveys. The selected service EINs report on an annual and/or quarterly basis.

Given the Census-related usage of this collection, and the crucial need to collect accurate classification information, we are requesting mandatory authority to conduct this survey under Title 13, United States Code, Sections 131 and 193. Section 193 provides the specific authority to collect supplementary statistics related to the conduct of the census on a mandatory basis.

There are only minimal changes to the form and instruction sheet. The wording of the questions and instructions for both sales and inventory will be reworded to be in line with the Census Bureau's monthly and annual surveys. These changes will not increase burden and will provide for consistency within the economic surveys at the Census Bureau. The letter to respondents, which accompanies the SQ-CLASS has been revised to reflect the mandatory nature of the collection.

The Census Bureau selects a first phase sample of EINs recently assigned by the IRS. Selected EINs are mailed a SQ-CLASS form to determine a measure of size (based on sales, receipts, or revenue); company organization; establishment information; and wholesale inventories and type of operation data. Retail, wholesale, or service EINs that are not affiliated with previously selected units are subjected to second phase sampling, with selected sampling units added to a survey panel. This methodology updates the current retail, wholesale, and service samples with a sample of new firms entering the business sector. The information obtained from the SQ-CLASS form is also used for tabulating small businesses in succeeding economic censuses (because small businesses are not mailed an economic census report form) and for the Census Bureau's Annual County Business Patterns Programs.

Although no statistical tables are prepared or published, the operations of this business birth survey directly and critically affect the quality of the estimates published for the Current Retail and Inventory Surveys (OMB Approval 0607-0717), Advance Monthly Retail Trade and Food Services Survey (OMB Approval 0607-0104), Monthly Wholesale Trade Survey (OMB 0607-0190), Services Annual Survey (OMB Approval 0607-0422), Annual Retail Trade Survey (OMB Approval 0607-0013), Annual Trade Survey (OMB Approval 0607-0195), and Quarterly Service Survey (OMB Approval 0607-0907). Indeed, all of these surveys would be seriously deficient without these business birth survey operations that keep their sample universe current.

Affected Public: Business or other for-profit organizations; Not-for-profit institutions.

Frequency: One time.

Respondent's Obligation: Mandatory.

Legal Authority: Title 13 U.S.C., Sections 131 & 193.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: October 11, 2007.
Gwellnar Banks,
Management Analyst, Office of the Chief Information Officer.

[FR Doc. E7-20428 Filed 10-16-07; 8:45 am]

BILLING CODE 3510-07-P